DEPARTMENT OF COMMERCE

International Trade Administration

[A-583-859]

Steel Concrete Reinforcing Bar From Taiwan: Final Results of Antidumping Duty Administrative Review; 2017-2018

AGENCY: Enforcement and Compliance, International Trade Administration, Department of Commerce.

SUMMARY: The Department of Commerce (Commerce) determines that Power Steel Co., Ltd. (Power Steel) made sales of steel concrete reinforcing bar (rebar) from Taiwan at less than normal value (NV) during the period of review (POR), March 7, 2017 through September 30, 2018.

DATES: Applicable October 8, 2020.

FOR FURTHER INFORMATION CONTACT: Leo Ayala, AD/CVD Operations, Office IV, Enforcement and Compliance, International Trade Administration, U.S. Department of Commerce, 1401 Constitution Avenue NW, Washington, DC 20230; telephone: (202) 482-3945.

SUPPLEMENTARY INFORMATION:

Background

Commerce published the Preliminary Results on December 17, 2019, covering one company, Power Steel.¹ In the Preliminary Results, we rescinded the administrative review with respect to Lo-Toun Steel.² We invited interested parties to comment on the Preliminary Results. On January 24, 2020, and January 31, 2020, we received case and rebuttal briefs, respectively, from interested parties.³ On January 16, 2020, the petitioner requested that Commerce conduct a hearing in this proceeding.⁴ We scheduled a hearing for February 27, 2020; however, in the absence of the requesting party, we did not conduct the hearing.

¹ See Steel Concrete Reinforcing Bar from Taiwan: Preliminary Results and Partial Rescission of Antidumping Duty Administrative Review; 2017-2018, 84 FR 68884 (December 17, 2019) (Preliminary Results), and accompanying Preliminary Decision Memorandum.

² Id.

³ See Petitioner's Letter, “Steel Concrete Reinforcing Bar from Taiwan: Petitioner's Case Brief,” dated January 24, 2020 (Petitioner's Case Brief); Power Steel's Letter, “Steel Concrete Reinforcing Bar,” dated January 24, 2020 (Power Steel's Case Brief); Petitioner's Letter, “Steel Concrete Reinforcing Bar from Taiwan: Petitioner's Rebuttal Brief,” dated January 31, 2020 (Petitioner's Rebuttal Brief); and Power Steel's Letter, “Steel Concrete Reinforcing Bar,” dated January 31, 2020 (Power Steel's Rebuttal Brief).

⁴ See Petitioner's Letter, “Steel Concrete Reinforcing Bar from Taiwan: Hearing Request,” dated January 16, 2020.

On April 8, 2020, Commerce extended the deadline for these final results.⁵ On April 24, 2020, Commerce tolled all deadlines in administrative reviews by 50 days,⁶ thereby extending the deadline for these results until August 3, 2020. On July 21, 2020, Commerce tolled all deadlines for all preliminary and final results in administrative reviews by an additional 60 days,⁷ thereby extending the deadline for these final results until September 30, 2020.⁸ On September 30, 2020, Commerce extended the deadline for these final results.⁹ Accordingly, the deadline for these final results is October 2, 2020. Commerce conducted this administrative review in accordance with section 751(a) of the Tariff Act of 1930, as amended (the Act).

⁵ See Memorandum, “Steel Concrete Reinforcing Bar from Taiwan: Extension of Deadline for Final Results of Antidumping Duty Administrative Review,” dated April 8, 2020.

⁶ See Memorandum, “Tolling of Deadlines for Antidumping and Countervailing Duty Administrative Reviews in Response to Operational Adjustments Due to COVID-19,” dated April, 24, 2020.

⁷ See Memorandum, “Tolling of Deadlines for Antidumping and Countervailing Duty Administrative Reviews,” dated July 21, 2020.

⁸ See Commerce's Letter, “Tolling of Deadlines for Antidumping and Countervailing Duty Administrative Reviews in Response to Operational Adjustments Due to COVID-19,” dated April 24, 2020; and Commerce's Letter, “Tolling of Deadlines for Antidumping and Countervailing Duty Administrative Reviews,” dated July 21, 2020.

⁹ See Memorandum, “Steel Concrete Reinforcing Bar from Taiwan: Extension of Deadline for Final Results of Antidumping Duty Administrative Review,” dated September 30, 2020.

Scope of the Order

The product covered by the Order is rebar from Taiwan.¹⁰ For a full description of the scope, see Appendix I.

¹⁰ See Steel Concrete Reinforcing Bar from Taiwan: Antidumping Duty Order, 82 FR 45809 (October 2, 2017) (Order).

Analysis of Comments Received

All issues raised in the case and rebuttal briefs by parties to this administrative review are addressed in the Issues and Decision Memorandum, which is hereby adopted by this notice. A list of the issues raised is attached to this notice as Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed Issues and Decision Memorandum and the electronic version of the Issues and Decision Memorandum are identical in content.

Changes Since the Preliminary Results

Based on our review of the record and comments received from interested parties, we have used the U.S. sales database submitted in Power Steel's January 9, 2020 SQR for these final results.¹¹

¹¹ See Memorandum, “Final Results of the 2017-2018 Administrative Review of the Antidumping Duty Order on Steel Concrete Reinforcing Bar from Taiwan: Power Steel Final Analysis,” dated October 2, 2020 (Power Steel's Final Analysis Memorandum); and Power Steel's January 9, 2020 SQR.

Final Results of the Administrative Review

We have determined the following weighted-average dumping margin exists for the period March 7, 2017 through September 30, 2018:

Producer or exporter | Weighted- average dumping margin (percent)
Power Steel Co. Ltd | 3.27

Assessment Rates

Commerce has determined, and CBP shall assess, antidumping duties on all appropriate entries of subject merchandise in accordance with these final results of review.¹²

¹² See 19 CFR 351.212(b).

For Power Steel, because its weighted-average dumping margin is not zero or de minimis (i.e., less than 0.5 percent), Commerce has calculated an importer-specific ad valorem duty assessment rate based on the ratio of the total amount of dumping calculated for the importer's examined sales to the total entered value of those same sales in accordance with 19 CFR 351.212(b)(1). In accordance with Commerce's “automatic assessment” practice, for entries of subject merchandise during the POR produced by Power Steel for which the company did not know that the merchandise was destined for the United States, we will instruct CBP to liquidate those entries at the all-others rate if there is no rate for the intermediate company involved in the transaction. We intend to issue instructions to CBP 15 days after publication of the final results of this review.

Cash Deposit Requirements

The following cash deposit requirements will be effective for all shipments of subject merchandise entered, or withdrawn from warehouse, for consumption on or after the publication date of the final results of this administrative review, as provided by section 751(a)(2)(C) of the Act: (1) The cash deposit rate listed in the “Final Results of the Administrative Review” section will be equal to the weighted-average dumping margin established in the final results of this review; (2) for previously reviewed or investigated companies not included in the final results of this review, the cash deposit rate will continue to be the company-specific rate published for the most recently completed segment of this proceeding in which the company was reviewed; (3) if the exporter is not a firm covered in this review, a previous review, or the original less-than-fair-value (LTFV) investigation, but the producer is, then the cash deposit rate will be the rate established for the most recently completed segment of this proceeding for the producer of subject merchandise; and (4) the cash deposit rate for all other producers or exporters will continue to be 3.50 percent, the all-others rate established in the LTFV investigation.¹³ These deposit requirements, when imposed, shall remain in effect until further notice.

¹³ See Order.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act and 19 CFR 351.221(b)(5).

Dated: October 2, 2020.
Jeffrey I. Kessler,
Assistant Secretary for Enforcement and Compliance.

Appendix I

The merchandise subject to the Order is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject countries or a third country, including but not limited to cutting, grinding, galvanizing, painting, coating, or any other processing that would not otherwise remove the merchandise from the scope of the Order if performed in the country of manufacture of the rebar. Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

Appendix II

List of Topics Discussed in the Issues and Decision Memorandum

I. Summary

II. Background

III. Scope of the Order

IV. Changes Since the Preliminary Results

V. Fraud Allegation

VI. Discussion of the Issues

Comment 1: Whether a Particular Market Situation (PMS) Exists With Respect to the Taiwanese Billet Market.

Comment 2: Whether Section 232 Duties Constitute Normal Duties Within Section 772(c)(2)(A) of the Tariff Act of 1930, As Amended (the Act).

Comment 3: Whether Certain Section 232 Duties Should be Deducted From Power Steel's U.S. Export Price (EP).

Comment 4: Whether Commerce Should Grant the Scrap Offset Reported by Power Steel.

VII. Recommendation

[FR Doc. 2020-22315 Filed 10-7-20; 8:45 am]

BILLING CODE 3510-DS-P